DEPARTMENT OF COMMERCE

National Oceanic and Atmospheric Administration

RIN 0648-XD57

Atlantic Highly Migratory Species; Pelagic Longline Research

AGENCY: National Marine Fisheries Service (NMFS), National Oceanic and Atmospheric Administration (NOAA), Commerce.

ACTION: Notice of availability.

SUMMARY: NMFS announces the availability of a Final Environmental Assessment (EA) and a final decision to issue an Exempted Fishing Permit (EFP) to conduct research in portions of the East Florida Coast (EFC) and Charleston Bump closed areas using a limited number of pelagic longline (PLL) vessels. Given the nearly rebuilt status of north Atlantic swordfish (B = 0.99BMSY) and bycatch reduction measures that were implemented throughout the U.S. PLL fishery in 2004, NMFS is authorizing the collection of baseline PLL fishery data in the closed areas to evaluate the effectiveness of existing bycatch reduction measures. The Final EA analyzes monthly and annual PLL logbook and pelagic observer program (POP) data on catch and bycatch rates of all species in the proposed research area from 1995-2000 to determine potential impacts of the research programfishery on target and non-target species. The Final EA includes additional analyses of catch rates for all species based on 18/0 circle hooks. NMFS will require the use of 18/0 non-offset circle hooks in the research project to minimize bycatch and bycatch mortality and 100 percent observer coverage to ensure scientific rigor.

FOR FURTHER INFORMATION CONTACT: Russell Dunn, 727-824-5399; fax: 727-824-5398, or Chris Rilling 301-713-2347; fax: 301-713-1917.

SUPPLEMENTARY INFORMATION: By issuing the EFP, NMFS authorizes a limited number of vessels (three are authorized, but only two vessels will fish at any given time and one vessel is designated as a backup vessels if breakdowns occur) to conduct research in portions of the EFC and Charleston Bump closed areas (Figure 1). The latitude and longitude coordinates of the proposed research area are provided in Table 1. In the EFC closed area, the proposed research area would be north of Fort Pierce, FL, beginning at 28 degrees north latitude and proceeding north, seaward of the axis of the Gulf Stream, to the northern boundary of the EFC closed area at 31° N. lat. In the Charleston Bump, the proposed research area would be north of 31 degrees north latitude and following the 200-meter isobath (approximately 100 fathom contour) to the northern and eastern boundaries of the Charleston Bump closed area. The two areas are hereafter referred to collectively as the proposed research area. NMFS closed the EFC and Charleston Bump closed areas to PLL gear in early 2001 to reduce bycatch of juvenile swordfish, billfish, and other Highly Migratory Species (HMS) (65 FR 47214, August 1, 2000). The Charleston Bump closed area is a seasonal closure from February through April every year, whereas the EFC closed area is closed year-round to PLL gear. Since that time, the swordfish stock has been nearly rebuilt, and new bycatch reduction measures have been implemented throughout the PLL fishery (e.g., circle hook requirements, bait requirements, bycatch release gear, and careful handling and release workshops). No PLL fishing has been authorized in the closed areas since 2001, and NMFS has not collected information on the effectiveness of current bycatch reduction measures in closed areas where bycatch rates may be higher than in other areas. NMFS thus would collect information under scientifically rigorous protocols to determine the effectiveness of bycatch reduction measures in these closed areas. This information will assist NMFS in making appropriate management decisions regarding the effectiveness of existing closed areas and the effectiveness of current bycatch reduction measures.

NMFS authorizes a total of 289 sets distributed equally inside and outside the proposed research area over a 12 month period beginning in late 2007 or early 2008. Each set would consist of 500 18/0 non-offset circle hooks with whole dead finfish bait and/or squid bait. Vessels would be subject to 100 percent observer coverage, and observers or research staff would collect data that includes, but is not limited to, catch per unit effort (CPUE) for target and bycatch species; discard rates; interaction rates with protected species; size of target species; hooking location; mortality at haul back; bycatch mortality; and if possible, an evaluation of the condition of fish at haul back to allow post-release mortality estimates.

All targeted catch (tunas, swordfish, and sharks) that can be legally landed could be harvested and sold by the vessel owners. No other compensation will be provided to the vessels. Anyll protected speciesbycatch which are incidentally interacted with will be released using NMFS-approved dehooking equipment and appropriate safe handling and release protocols. All live bycatch will be released in a manner that maximizes survival, in accordance with existing regulations. Incidental catch of bluefin tuna would be landed consistent with existing regulations. Any mortalities of Atlantic Tunas Convention Act (ATCA) regulated species (i.e., tunas and swordfish) and sharks that could be legally landed would be counted against the appropriate quotas. Non-target species and protected resources would be tagged and released alive, consistent with requirements of the Terms and Conditions of the 2004 Biological Opinion issued for the fishery.

NMFS received a number of comments on the Draft EA including, but not limited to, comments on bycatch levels, impacts on target and non-target species, study methodology, and socio-economic impacts. The responses to comments are included in Appendix A in the Final EA, and are not repeated here. Based on the public comment received, NMFS improved and expanded the environmental analyses. In the Final EA, the Agency included an additional set of catch and bycatch estimates based on circle hook data which were not included in the Draft EA. Thus, NMFS has analyzed a range of potential impacts ranging from the worst case scenario using pre-closure J-hook data, to more conservative estimates based on 18/0 circle hook data. The additional analyses with 18/0 circle hook data further support the conclusion that the anticipated ecological impacts of the research fishery on target and non-target species are expected to be minor. For example, based on 18/0 circle hooks with a 10 degree offset (POP data 2004-2005), NMFS estimates that, under the preferred alternative, two white marlin will be discarded alive and five discarded dead, and two blue marlin will be discarded alive and two discarded dead. For sea turtles, two leatherback and one loggerhead sea turtle interactions are predicted to occur based on the 18/0 circle hooks with 10 degree offset. For marine mammals, only three interactions occurred in the proposed research area from 1995-2000. They included one pilot whale, one Risso's dolphin, and one spinner dolphin. Although eleven interactions were reported from 1993-2005 in the Florida East Coast (FEC) and South Atlantic Bight (SAB) statistical sampling areas, only three of those interactions occurred in the proposed research area. NMFS anticipates few interactions with marine mammals due to the location of the research fishery and the limited amount of fishing effort that is part of this pilot research project, particularly in comparison to past fishing effort in the area. Fewer than 10 bluefin tuna interactions are expected to occur, and the bulk of the catch will be comprised of swordfish and yellowfin tuna, with an predicted 870 swordfish retained, 373 discarded alive, and 145 potentially discarded dead, and 346 yellowfin retained, 49 discarded dead, and 27 discarded alive based on 18/0 circle hook data.

Projections based on data from 1995-2000 were used to analyze the worst case scenario (i.e., use of pre-closure J-hook data from the POP 1995-2000). Based on that data, NMFS predicts at most two interactions with leatherback sea turtles and six interactions with loggerhead sea turtles are predicted to occur in the proposed research area. Given the significantly lower interaction and mortality rates of sea turtles with 18/0 circle hooks, this action is not expected to significantly increase fishery interactions with, or mortalities of, sea turtles. The predicted interactions would not cause the Incidental Take Statement (ITS) in the 2004 Biological Opinion for the PLL fishery to be exceeded and would not be likely to jeopardize the continued existence of sea turtles. Incidental takes of, or interactions with, protected species that are listed as threatened or endangered under the Endangered Species Act taking place under the research fishery would be counted against the authorized incidental take levels specified in the 2004 ITS in the Biological Opinion for the PLL fishery.

In addition to sea turtles, the Final EA includes similar analyses of PLL and POP data from 1995-2000 pre-closure J-hook data, as well as 18/0 circle hook data, on catch rates, live and dead discard rates, and retained numbers of swordfish, bluefin, yellowfin, and bigeye tunas, blue and white marlin, sailfish, spearfish, large coastal sharks, pelagic sharks, sandbar sharks, and dusky sharks. Based on the worst case scenario from the POP data, and applying predicted fishing effort in the research fishery to pre-closure J-hook catch rates, an estimated 1,083 swordfish are predicted to be retained, 973 discarded alive, and 360 discarded dead; zero (0) bluefin tuna are predicted to be caught or discarded; nine white marlin are predicted to be discarded alive and 13 dead; 10 blue marlin are predicted to be discarded alive and 14 dead; 113 large coastal sharks are predicted to be kept; 124 discarded alive, and 50 discarded dead (depending upon available quota); and 21 pelagic sharks are predicted to be kept, 81 discarded alive, and 11 discarded dead (depending upon available quota). Given the known and anticipated mortality reduction benefits of circle hooks for Atlantic HMS relative to J-hooks, the estimates above are likely over-estimates. As a result, this action is not expected to significantly increase the retention or bycatch of HMS.

All fishing activities would be monitored by Federal fisheries observers or NMFS trained research staff to provide data on longline gear configuration; target and incidental catch; bycatch of billfish, juvenile swordfish, and bluefin tuna; and sea turtle interactions. NMFS currently collects this information on selected PLL vessels through the POP.

Even though research effort necessarily will result in an increase in fishing effort (from complete closure to limited scientific access) an increase in fishing effort across the entire fishery is not anticipated because vessels participating in the research fishery would have otherwise been fishing commercially for HMS in other, open areas.

The regulations that prohibit the proposed activities absent issuance of an EFP include requirements for vessel reporting (50 CFR 635.4) and fishing in a closed area (50 CFR 635.21(c)(2)).

BILLING CODE 3510-22-S

Table 1. Coordinates of the proposed research area (preferred alternative 3) shown in Figure 1 beginning with location number 1 and proceeding clockwise through location number 12.
Point | N. Latitude: Degrees | N. Latitude: Minutes | N. Latitude: Seconds | W. Longitude: Degrees | W. Longitude: Minutes | W. Longitude: Seconds
1 | 34 | 0 | 0 | 76 | 0 | 0
2 | 31 | 0 | 0 | 76 | 0 | 0
3 | 31 | 0 | 0 | 78 | 0 | 0
4 | 28 | 17 | 6.9 | 79 | 11 | 54.5
5 | 28 | 0 | 0 | 79 | 23 | 47.9
6 | 28 | 0 | 0 | 79 | 40 | 0
7 | 31 | 0 | 0 | 79 | 40 | 0
8 | 31 | 0 | 0 | 79 | 54 | 38.9
9 | 31 | 47 | 7.2 | 78 | 21 | 50.5
10 | 32 | 29 | 12.1 | 78 | 40 | 21.0
11 | 33 | 5 | 35.8 | 77 | 27 | 15.7
12 | 34 | 0 | 0 | 76 | 15 | 26.5

All other relevant regulations concerning HMS at 50 CFR part 635 would apply.

Authority: 16 U.S.C. 971 et seq. and 16 U.S.C. 1801 et seq.

Dated: December 21, 2007.
Alan D. Risenhoover
Director, Office of Sustainable Fisheries, National Marine Fisheries Service.

[FR Doc. 07-6290 Filed 1-2-08; 8:45 am]

BILLING CODE 3510-22-S